DEPARTMENT OF ENERGY

Federal Energy Regulatory Commission

[Project No. 14986-000]

Notice of Preliminary Permit Application Accepted for Filing and Soliciting Comments, Motions To Intervene, and Competing Applications; California State University Maritime Academy

On April 17, 2019, the California State University Maritime Academy (Cal Maritime) filed an application for a preliminary permit, pursuant to section 4(f) of the Federal Power Act (FPA), proposing to study the feasibility of the Cal Maritime Marine Hydrokinetic Project (project). The proposed project would be located in a navigable cove of the Sacramento San Joaquin River (Carquinez Strait), located in the City of Vallejo, in Solano County, California. The sole purpose of a preliminary permit, if issued, is to grant the permit holder priority to file a license application during the permit term. A preliminary permit does not authorize the permit holder to perform any land- disturbing activities or otherwise enter upon lands or waters owned by others without the owners' express permission.

The proposed project would consist of a floating power platform located at Cal Maritime's property and use marine hydrokinetic technologies to generate approximately 41,610 megawatt hours annually. The floating platform would measure 120-feet-long by 40-feet-wide, and 14-feet-deep. Cal Maritime proposes to use the power generated by the project on its campus and distribute the excess power through an interconnect with Pacific Gas and Electric Company's Colgate-Oakland transmission line.

Applicant Contact: Franz Lozano, Vice President & CFO, California State University Maritime Academy, 200 Maritime Academy, Vallejo, CA 94590; phone: (707) 654-1038; or via email at: flozano@csum.edu.

FERC Contact: Kenneth Hogan; phone: (202) 502-8434; or email at: Kenneth.Hogan@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14986-000.

More information about this project, including a copy of the application, can be viewed or printed on the “eLibrary” link of Commission's website at http://www.ferc.gov/docs-filing/elibrary.asp. Enter the docket number (P-14986-000) in the docket number field to access the document. For assistance, contact FERC Online Support.

Dated: June 14, 2019.
Nathaniel J. Davis, Sr.,
Deputy Secretary.

[FR Doc. 2019-13136 Filed 6-19-19; 8:45 am]

BILLING CODE 6717-01-P